DEPARTMENT OF ENERGY

Federal Energy Regulatory Commission

[Docket No. EL05-1-002]

Entergy Services, Inc.; Notice of Compliance Filing

March 27, 2007.

Take notice that on March 22, 2007, Entergy Services, Inc. (Entergy) acting as agent for Entergy Arkansas, Inc. tendered for filing in compliance with the Commission's February 20, 2007 Order to reclassify certain facilities identified in the Interconnection and Operating Agreement between Entergy Arkansas and Union Power Partners, L.P. as network upgrades eligible for transmission credits and interest on such credits.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 12, 2007.

Philis J. Posey,
Acting Secretary.

[FR Doc. E7-5990 Filed 3-30-07; 8:45 am]

BILLING CODE 6717-01-P